ENVIRONMENTAL PROTECTION AGENCY

40 CFR Parts 52 and 81

[EPA-R07-OAR-2025-0693; FRL-12887-01-R7]

Air Plan Approval; State of Kansas; Attainment Redesignation for the 2008 Lead NAAQS and Associated Maintenance Plan

AGENCY: Environmental Protection Agency (EPA).

ACTION: Proposed rule.

SUMMARY: The Environmental Protection Agency (EPA) is proposing to approve the request to redesignate portions of Saline County, Salina, Kansas to attainment for the 2008 lead National Ambient Air Quality Standards (NAAQS). The EPA's proposed approval of the redesignation request is based on the determination that the Salina area has met the criteria for redesignation to attainment set forth in the Clean Air Act (CAA), including the determination that the area has attained the standard. Additionally, the EPA is proposing to approve the State's plan for maintaining the 2008 lead NAAQS in the Salina area for ten years beyond redesignation.

DATES: Comments must be received on or before September 8, 2025.

ADDRESSES: You may send comments, identified by Docket ID No. EPA-R07-OAR-2025-0693 to https://www.regulations.gov. Follow the online instructions for submitting comments. All submissions received must include the Docket ID No. for this rulemaking. Comments received will be posted without change to https://www.regulations.gov, including any personal information provided. For detailed instructions on sending comments and additional information on the rulemaking process, see the “Written Comments” heading of the SUPPLEMENTARY INFORMATION section of this document.

FOR FURTHER INFORMATION CONTACT: Jennifer Kissel, Environmental Protection Agency, Region 7 Office, Air and Radiation Division, 11201 Renner Boulevard, Lenexa, Kansas 66219; telephone number: (913) 551-7982; email address: kissel.jenny@epa.gov.

SUPPLEMENTARY INFORMATION: Throughout this document “we,” “us,” and “our” refer to the EPA. This section provides additional information by addressing the following:

Table of Contents

I. Written Comments

II. What action is the EPA proposing to take?

III. Background for the EPA's Proposed Action

IV. Have the requirements for approval of a SIP revision been met?

V. The EPA's Analysis of the State's Request

a. Criteria (1)—The Area Has Attained the 2008 Lead NAAQS

b. Criteria (2)—The Area Has a Fully Approved SIP Under Section 110(k)

c. Criteria (3)—The Air Quality Improvement Is Due to Permanent and Enforceable Reductions in Emissions Resulting From Implementation of the Applicable SIP and Applicable Federal Air Pollutant Control Regulations and Other Permanent Enforceable Reductions

d. Criteria (4)—The Administrator Has Fully Approved a Maintenance Plan for the Area as Meeting the Requirements of Section 175A

1. Attainment Emissions Inventory

2. Maintenance Demonstration

3. Monitoring Network

4. Verification of Continued Attainment

5. Contingency Plan

e. Criteria (5)—The Area Has Met All Applicable Requirements Under Section 110 and Part D

VI. Summary of Proposed Action

VII. Incorporation by Reference

VIII. Statutory and Executive Order Reviews

I. Written Comments

Submit your comments, identified by Docket ID No. EPA-R07-OAR-2025-0693, at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full the EPA public comment policy, information about CBI or multimedia submissions, and general guidance on making effective comments, please visit https://www.epa.gov/dockets/commenting-epa-dockets.

II. What action is the EPA proposing to take?

The EPA is proposing to approve the request submitted by the State of Kansas (hereinafter referred to as the State) to redesignate the Saline County, Salina, Kansas nonattainment area (hereinafter referred to as Salina nonattainment area) to attainment for the 2008 lead NAAQS.

On March 20, 2025, the State submitted a redesignation request and plan that demonstrates attainment of the 2008 lead NAAQS. Also included in the submittal is an associated maintenance plan to ensure that the area continues to attain the standard ten years beyond redesignation. Based on our review of the State's plan, which is described in detail in the following sections and in the EPA's technical support document (TSD), the EPA proposes to approve the redesignation request for the Salina nonattainment area and associated maintenance plan. The redesignation request, maintenance plan, and the EPA TSD are included in the docket for this action. As part of this proposed action, the EPA also proposes to approve a revision to the Kansas SIP to incorporate a construction permit modification, which was issued on December 27, 2018 (hereinafter referred to as the December 2018 permit) for the Stryten Salina, LLC facility (formerly known as Exide Technologies, hereinafter referred to as Stryten) which contains an updated control strategy to control lead emissions. The December 2018 permit incorporates three permit modifications to the facility's construction permit that was originally issued August 18, 2014 (hereinafter referred to as the August 2014 permit.)

III. Background for the EPA's Proposed Action

On November 12, 2008, the EPA published a revision to the lead NAAQS, lowering the standard from 1.5 micrograms per cubic meter (μg/m³) to 0.15 μg/m³ (73 FR 66964).

Effective November 22, 2011, the EPA designated the Salina area as nonattainment for the 2008 lead NAAQS based on air quality monitoring data from 2008 through 2010 (76 FR 72097).

The Stryten lead acid battery manufacturing plant located in Salina, KS was the main source of lead emissions impacting the violating monitor. On February 25, 2015, the State submitted a plan to bring the area into attainment of the standard, which was approved by the EPA on July 20, 2016 (81 FR 47034). The Salina lead attainment plan included a control strategy consisting of process and control device/equipment modifications with corresponding emission limitations, building enclosure projects, negative pressure and particulate capture ventilation systems, and paving projects at the Stryten facility. The mechanism to enforce the control strategy is the August 2014 construction permit issued to Stryten. With air quality monitoring data registering violations of the 2008 lead NAAQS from July 2016 through October 2016, the area did not attain by the statutory deadline of December 31, 2016. For this reason, Stryten implemented contingency measures and additional control strategies made enforceable through modifications to the August 2014 permit, the most recent of which is the December 2018 permit.¹ The additional emission reduction measures included better control device filtration efficiency and monitoring, expansion of negative pressure ventilation of all lead-emitting process areas, additional paving of plant property, and dust suppression on plant grounds and roadways using a water truck and vacuum street sweeper. See the State's maintenance plan and the December 2018 permit for more information on the updated control strategy.

¹ Modifications to Stryten's August 2014 construction permit were also issued on January 11, 2017 and June 23, 2017. The December 2018 permit modification incorporates and maintains requirements from the previous construction permits. The December 2018 permit modification is included in appendix A of the State's maintenance plan.

Following implementation of the additional emission reduction measures starting in 2017, ambient lead concentrations decreased in the area. Air quality monitoring data from 2017-2019, 2018-2020, and 2019-2021 show attainment of the 2008 lead NAAQS.

The State received a Change of Ownership/Operator Notification in 2020 notifying the State that Stryten is the owner of all permits related to the lead acid battery manufacturing facility related to Source Identification No. 1690035.

IV. Have the requirements for approval of a SIP revision been met?

The State's redesignation submission meets the public notice requirements for SIP submissions in accordance with 40 CFR 51.102. The submission also satisfies the completeness criteria of 40 CFR part 51, appendix V. The State provided public notice on this SIP revision from January 23, 2025, to February 24, 2025, and received no comments. In addition, as explained in this proposed action and in more detail in the TSD, the revision meets the substantive SIP requirements of the CAA, including section 110 and implementing regulations.

V. The EPA's Analysis of the State's Request

The CAA provides the requirements for redesignating a nonattainment area to attainment. Specifically, section 107(d)(3)(E) of the CAA allows for redesignation provided the following criteria are met: (1) the Administrator determines that the area has attained the applicable NAAQS; (2) the Administrator has fully approved the applicable implementation plan for the area under section 110(k); (3) the improvement in air quality is due to permanent and enforceable reductions in emissions resulting from implementation of the applicable SIP and applicable Federal air pollutant control regulations and other permanent and enforceable reductions; (4) the Administrator has fully approved a maintenance plan for the area as meeting the requirements of section 175A; and (5) the state containing such area has met all requirements applicable to the area under section 110 and part D of title I of the CAA.

The EPA has provided guidance on redesignation in the General Preamble ² for the implementation of title I of the CAA Amendments of 1990 (April 16, 1992, 57 FR 13498, and supplemented on April 28, 1992, 57 FR 18070) and has provided further guidance on processing redesignation requests in the following documents:

² State Implementation Plans; General Preamble for the Implementation of Title I of the Clean Air Act Amendments of 1990,” 57 FR 13498, April 16, 1992.

1. “Procedures for Processing Requests to Redesignate Areas to Attainment,” Memorandum from John Calcagni, Director, Air Quality Management Division, September 4, 1992 (hereafter referred to as the “Calcagni Memorandum”); ³

³ See the docket for this action and at https://www.epa.gov/sites/default/files/2016-03/documents/calcagni_memo_-_procedures_for_processing_requests_to_redesignate_areas_to_attainment_090492.pdf.

2. “State Implementation Plan (SIP) Actions Submitted in Response to CAA Deadlines,” Memorandum from John Calcagni, Director, Air Quality Management Division, October 28, 1992; and

3. “Part D New Source Review (Part D NSR) Requirements for Areas Requesting Redesignation to Attainment,” Memorandum from Mary D. Nichols, Assistant Administrator for Air and Radiation, October 14, 1994.

These documents are included in the docket for this proposed action.

a. Criteria (1)—The Area Has Attained the 2008 Lead NAAQS

For designating a nonattainment area to attainment, the CAA requires the EPA to determine that the area has attained the applicable NAAQS (CAA section 107(d)(3)(E)(i)). The EPA is proposing to determine that the Salina nonattainment area is attaining the 2008 lead NAAQS based upon complete, quality-assured, and certified ambient air quality monitoring data from 2017-2019, 2018-2020, and 2019-2021 that show that the area has monitored attainment of the 2008 Lead NAAQS.

According to 40 CFR 50.16, the 2008 lead NAAQS is met when the maximum arithmetic 3-month mean concentration for a 3-year period, as determined in accordance with 40 CFR part 50, appendix R, is less than or equal to 0.15 μg/m³ at all relevant monitoring sites in the subject area. The EPA refers to this maximum rolling three-month average over a three-year period as the “design value.” The form of the standard is based on the maximum three-month rolling average over a three-year period (thirty-six rolling calendar quarters, or thirty-eight total months).

The State operated the original monitoring site in Salina from 2010 to 2019. The site was relocated to the current location 90 meters east of the original site in October 2019 and was approved by the EPA. The EPA's TSD and the State's maintenance plan have more information concerning relocation of the monitor.

The area has not recorded a three-month average lead value at the air monitor greater than 0.15 μg/m³ during any three-month calendar period since the three-month period ending October 2016. Table 1 summarizes the annual maximum 3-month rolling average lead concentrations and 3-year design values for the Salina lead monitor. As demonstrated by the data in the table, design values for the 2017-2019, 2018-2020, and 2019-2021 periods are in compliance with the 2008 lead NAAQS.

Table 1—Summary of Annual Maximum 3-Month Rolling Average Lead Concentrations and Design Values for Salina Monitor From 2015-2021
Year | Annual max 3-month rolling average (μg/m³) | 3-Year period | Max 3-month rolling average design value for the 3-year period (μg/m³)
2015 | 0.11 |  |
2016 | 0.18 |  |
2017 | 0.15 | 2015-2017 | 0.18
2018 | 0.05 | 2016-2018 | 0.18
2019 | 0.05 | 2017-2019 | * 0.15
2020 | 0.05 | 2018-2020 | * 0.05
2021 | 0.04 | 2019-2021 | * 0.05
* Design values in attainment of the 2008 lead NAAQS.

Due to equipment failures and electrical malfunctions at the monitoring site between May 5, 2022, and June 16, 2022, the State was not able to meet data completeness thresholds required to calculate valid lead design values for 2020-2022, 2021-2023, and 2022-2024. While design values for these periods are not available, the State's plan references 2022 and 2023 lead data and preliminary lead data from 2024 that are consistent with attainment of the standard. More information on the lead monitoring data can be found in the State's maintenance plan and in the TSD.

Based on the EPA's review of this data, the EPA proposes to find that the Salina area has attained the 2008 lead NAAQS.

b. Criteria (2)—The Area Has a Fully Approved SIP Under Section 110(k)

For designating a nonattainment area to attainment, the CAA requires that the Administrator has fully approved the applicable implementation plan for the area under section 110(k) (CAA section 107(d)(3)(E)(ii)). The EPA approved the State's attainment plan in a Federal Register rulemaking dated July 20, 2016 (81 FR 47034). The EPA has determined that the State has met all of the requirements for approval of the State's attainment SIP revision.

c. Criteria (3)—The Air Quality Improvement Is Due to Permanent and Enforceable Reductions in Emissions Resulting From Implementation of the Applicable SIP and Applicable Federal Air Pollutant Control Regulations and Other Permanent Enforceable Reductions

For redesignating a nonattainment area to attainment, section 107(d)(3)(E)(iii) of the CAA requires the EPA to determine that the air quality improvement in the area is due to permanent and enforceable reductions in emissions resulting from implementation of the SIP, applicable Federal air pollution control regulations, and other permanent and enforceable reductions. The EPA proposes to find that the State has demonstrated that the observed air quality improvement in the Salina nonattainment area is due to permanent and enforceable reductions in emissions.

Despite implementation of the control strategy contained in the August 2014 permit, the Salina nonattainment area failed to attain the lead standard by December 31, 2016, triggering implementation of contingency measures at Stryten as specified in the permit. Stryten was subsequently issued three air construction permit modifications with updated control strategies that are incorporated in the December 2018 permit and are enforceable by the State and the EPA. The December 2018 permit includes additional emissions limitations and work practice controls that are attributed to the area's attainment of the NAAQS, such as baghouse improvements, street sweeping, and other fugitive dust measures.

Following implementation of the additional emission reduction measures from the December 2018 permit, ambient lead concentrations decreased and the Salina nonattainment area came into compliance with the 2008 lead NAAQS. Section IV. of the TSD and section 2 of the State's submittal describes the control strategy and new lead emission reduction measures included in the December 2018 permit. The State included the December 2018 permit in appendix A of the State submittal for approval into the SIP. Once the EPA approves Stryten's December 2018 permit as part of this redesignation action, the enhanced control strategy in the December 2018 permit will be both permanent and enforceable.

Based on the information provided in the State's maintenance plan, the EPA proposes to find that Kansas has demonstrated that the observed air quality improvements in the Salina nonattainment area are due to implementation of the requirements of the August 2014 and December 2018 permits.

d. Criteria (4)—The Administrator Has Fully Approved a Maintenance Plan for the Area as Meeting the Requirements of Section 175A

For designating a nonattainment area to attainment, the CAA requires that the Administrator has fully approved a maintenance plan for the area as meeting the requirements of section 175A (CAA section 107(d)(3)(E)(iv)). In conjunction with its redesignation request submitted to the EPA on March 20, 2025, the State also submitted a maintenance plan to provide for the ongoing attainment of the 2008 lead NAAQs through the year 2036, which is at least 10 years following the effective date of approval of the redesignation SIP revision. The EPA has reviewed the maintenance plan and proposes to find that it meets the requirements of section 175A of the CAA as explained further below.

Section 175A of the CAA establishes requirements for maintenance plans seeking redesignation from nonattainment to attainment. Under section 175A, the plan must demonstrate continued attainment of the applicable NAAQS for at least ten years after the EPA approves a redesignation to attainment. Eight years after redesignation, a state must submit a revised maintenance plan which demonstrates that attainment will continue to be maintained for ten years following the initial ten-year maintenance period. To address the possibility of future NAAQS violations, the maintenance plan must contain contingency measures with a schedule for implementation as the EPA deems necessary to assure prompt correction of any future NAAQS violations.

The EPA's interpretation of section 175A is contained in the Calcagni Memorandum.⁴ The Calcagni Memorandum provides guidance on the content of a maintenance plan, explaining that it should address five requirements: (1) An emissions inventory; (2) a maintenance demonstration; (3) an air quality monitoring commitment; (4) verification of continued attainment; and (5) a contingency plan.

⁴ See the docket for this action and at https://www.epa.gov/sites/default/files/2016-03/documents/calcagni_memo_-_procedures_for_processing_requests_to_redesignate_areas_to_attainment_090492.pdf.

Section 175A requires a state seeking redesignation to attainment to submit a SIP revision to provide for the maintenance of the NAAQS in the area “for at least 10 years after the redesignation.” The EPA has interpreted this as a showing of maintenance “for a period of ten years following redesignation,” Calcagni Memorandum at page 9. Where the modeling method of showing maintenance is used, a state must show that “the future mix of sources and emission rates will not cause a violation of the NAAQS.” Id. Modeling should “contain a summary of the air quality concentrations expected to result from application of the control strategy” and “identify and describe the dispersion model or other air quality model used to project ambient concentrations.” Id.

The following provides a discussion of how the EPA has proposed to determine that the State's maintenance plan meets the requirements of 175A.

1. Attainment Emissions Inventory

The State is required to develop an inventory of actual emissions to identify the level of emissions sufficient to attain the NAAQS. Stryten is the only point source of lead in the Salina nonattainment area, and there are no nonpoint sources of lead emissions in the area. The State submitted the lead emissions inventory for the Stryten facility in table 3-1 in the maintenance plan. The emissions inventory is summarized in table 2. The emissions inventory includes Stryten's actual, facility-wide lead emissions from 2015-2021 in tons/year.

Table 2—Stryten's Reported Facility-Wide Emissions From 2015-2021
Year | Lead emissions (tons/year)
2015 | 0.36
2016 | 0.32
2017 | 0.19
2018 | 0.14
2019 | 0.15
2020 | 0.10
2021 | 0.08

Table 2 shows that total lead emissions in the nonattainment area decline after 2017, which reflects enforceable emission reductions achieved through implementation of the additional control measures at Stryten beginning in 2017.

As discussed in section V.a. of this preamble, the annual maximum 3-month rolling average lead concentration has not exceeded the level of the 2008 lead NAAQS since 2017. For this reason, Stryten's total lead emissions of 0.19 tons in 2017 is consistent with attainment of the NAAQS. As shown in table 2, Stryten's lead emissions remain below 0.19 tons per year from 2018 through 2021. More information can be found in the EPA's TSD.

The EPA proposes to determine that the State has satisfied the requirement to develop an attainment inventory.

2. Maintenance Demonstration

The State may demonstrate maintenance of the 0.15 µg/m³ standard by either showing that future lead emissions will not exceed the level of the attainment inventory, or by modeling to show that the future mix of sources and emissions rates will not cause a violation of the 2008 lead NAAQS. The demonstration should be for a period of ten years following the redesignation. Dispersion modeling is a more sophisticated means of demonstrating maintenance than relying solely on the attainment emissions inventory because it incorporates meteorology, topography, and source characteristics in addition to permitted allowable emissions rates.

As discussed above, the State provides an emissions inventory to demonstrate the level of actual emissions consistent with attainment of the 2008 lead NAAQS. To demonstrate continued maintenance of the NAAQS for a period of at least ten years based on Stryten's permitted allowable emissions levels, the State provided two modeling demonstration analyses included in appendix B of the State's plan and further detailed in the EPA's TSD. As explained in the State's plan, lead emissions from Stryten, the only point source of lead in the Salina nonattainment area, are expected to remain steady with only slight fluctuations throughout the maintenance period. The State does not expect any new industry or development through the 2036 maintenance period and any new source would need to comply with the NSR permitting program, ensuring anti-backsliding of the federally enforceable and permanent control strategy. This means that the 2036 projected emissions can be represented by the 2017 attainment year.

The maintenance plan's first modeling analysis was performed by Stryten based on implementation of the control measures that are enforceable through the December 2018 permit. This analysis is documented in detail in the “Air Quality Dispersion Modeling Report,” prepared for Stryten by Ramboll and submitted to the State on October 1, 2021 (appendix B, Attachment D of the maintenance plan). Additionally, the State conducted a supplemental modeling analysis that evaluated an operating scenario characterizing the point sources' allowable emission rates at worst-case dispersion conditions. The State's supplemental modeling analysis used the same modeling configuration and emission rates as the Stryten October 2021 modeling but different stack parameters for the point sources in the model, specifically stack parameters that are generally less favorable for dispersion. The State's supplemental modeling analysis is described in detail in appendix B of the maintenance plan. Both Stryten's October 2021 modeling and the State's supplemental modeling analyses show attainment of the 2008 lead NAAQS at receptors throughout the nonattainment area. The EPA's review and analysis of both modeling demonstrations can be found in the TSD and is consistent with 40 CFR part 51, appendix W, Guideline on Air Quality Models (appendix W).⁵

⁵ See 89 FR 95031, November 29, 2024.

The EPA proposes to find that the maintenance modeling demonstrations follow current EPA modeling guidance in appendix W and used allowable emission rates consistent with the December 2018 permit. As stated above, both demonstrations, including the State's supplemental modeling analysis based on a worst-case operating scenario with less favorable dispersion characteristics, show modeled attainment of the 2008 lead NAAQS throughout the nonattainment area through 2036. Therefore, the EPA proposes to find that the State has demonstrated maintenance of the 2008 lead NAAQS. The input files used in the modeling demonstrations are available by request from the contact listed in the FOR FURTHER INFORMATION CONTACT section of this document.

3. Monitoring Network

Once a nonattainment area has been redesignated, the state must continue to operate an appropriate air monitoring network, in accordance with 40 CFR part 58, to verify the attainment status of the area. The State has committed in its redesignation request and maintenance plan for the Salina nonattainment area to operate the lead air quality monitor (site ID 20-169-0004) in accordance with 40 CFR part 58. Air modeling has shown this monitoring location to be in the predicted area of maximum impact from fugitive emissions from Stryten. Thus, this air monitoring location continues to be acceptable for verifying continued NAAQS attainment. The State will continue to operate a lead monitor at this location for a minimum of ten years. As required by section 175A, eight years following redesignation the State shall submit an additional maintenance plan. The lead monitoring network will be revisited at that time. The EPA reviews any changes to the State's lead monitoring network in the annual network monitoring plan in accordance with 40 CFR part 58.

4. Verification of Continued Attainment

The State has the legal authority to enforce and implement the requirements of the December 2018 permit for Stryten to ensure ongoing attainment of the 2008 lead NAAQS. These SIP-approved documents contain the permanent and enforceable measures for controlling lead emissions. The State commits in its maintenance plan to assure continued compliance through monitoring, performance testing, recordkeeping, and reporting requirements as established in the 2018 permit. The maintenance plan also includes that field representatives have the authority to conduct onsite inspections pursuant to K.S.A. 65-3009, which is part of the State's air quality program to identify violations and take timely and appropriate compliance and enforcement actions. Should another source of lead emissions to air seek a permit in the area to construct a new source or modify an existing one, the State has the authority to evaluate the potential impacts to air quality and NAAQS attainment.

The maintenance plan also includes that since 2014, Stryten has been required to submit a Class 1 annual emissions inventory in accordance with K.A.R. 28-19-517. The State annually submits emissions inventories to the EPA.

The State commits in its maintenance plan to continue to operate its lead monitoring site to verify the attainment status of the area and will continue to work with Region 7 to follow the air monitoring network review process, as required by 40 CFR part 58, to determine the adequacy of the lead monitoring network.

The EPA proposes to find that the information in the maintenance plan demonstrates that the State has the legal authority to implement and enforce all measures necessary to attain and maintain the 2008 lead NAAQs.

5. Contingency Plan

Section 175A(d) of the CAA requires that a maintenance plan include contingency provisions, as necessary, to promptly correct any violation of the NAAQS in the area following redesignation of the area. The State's maintenance plan states that it will require Stryten to implement all of the contingency measures in the December 2018 permit if a NAAQS violation occurs after redesignation of the area. The State established triggers that will initiate a timely response to monitored indications of a possible future violation of the 2008 NAAQS as described in table 3-2 in the maintenance plan and section X. of the December 2018 permit. These contingency measures include, for example, increasing dust suppression, installing continuous pressure analyzers/monitors, completing a root cause analysis, conducting more frequent stack testing, or completing new air modeling.

The EPA proposes to find that the State's contingency measures satisfy the pertinent requirements of CAA section 175A(d).

e. Criteria (5)—The Area Has Met All Applicable Requirements Under Section 110 and Part D

For designating a nonattainment area to attainment, the CAA requires that the Administrator has fully approved a maintenance plan for the area as meeting the requirements under section 110 and Part D (CAA section 107(d)(3)(E)(v)). Section 110(a)(2) of title I of the CAA delineates the general requirements for an infrastructure SIP, which include enforceable emissions and other control measures, means, or techniques; provisions for the establishment and operation of appropriate devices necessary to collect data on ambient air quality; and programs to enforce the limitations. More specifically these requirements include, but are not limited to, the following: submittal of a SIP that has been adopted by the state after reasonable public notice and hearing; provisions for establishment and operation of appropriate procedures needed to monitor ambient air quality; implementation of a source permit program and provisions for the implementation of a Prevention of Significant Deterioration (PSD) program; provisions for the implementation of a Nonattainment New Source Review (NSR) program; provisions for air pollution modeling and provisions for public and local agency participation in planning and emission control rule development.

The other requirements of section 110(a)(2) pertain to the administration of the state program to ensure the effectiveness of its overall air quality management program. The adequacy of the remaining elements of section 110(a)(2) including the State's PSD and Nonattainment NSR program, the State's appropriate air monitoring program for collecting air quality data, the State's ability to conduct air modeling, and the State's provisions for public participation for air planning are addressed in the EPA's September 15, 2014 final approval of the State's infrastructure SIP revision for the 2008 Lead NAAQS (79 FR 54908).

Finally, section 107(d)(3)(E)(v) requires that the redesignation plan meet the requirements of part D. Section 172(c) and identifies key provisions that states must address in a nonattainment SIP, including: provisions for attainment and the timely implementation of all reasonably available control technology (RACT) and reasonably available control measures (RACM); provisions for reasonable further progress (RFP); provisions for an emissions inventory for the nonattainment area; provisions for nonattainment NSR; provisions for other measures, including a control strategy with enforceable limits and schedules and timetables for compliance; provisions to meet applicable parts of title 42 section 7410(a)(2); provisions for equivalent technologies; and provisions for contingency measures.

The approved attainment SIP revision contains legally enforceable control measures and includes an evaluation of how those measures meet RACT and RACM.⁶ The approved attainment SIP also included a plan for making RFP. An emissions inventory is included in the attainment SIP revision, and an emissions inventory is included as discussed in section V. of this preamble. The State has a SIP approved Nonattainment NSR program.⁷ The State did not request or use equivalent technologies. The December 2018 permit and the maintenance plan included in this proposed SIP action include enforceable contingency measures and control measures.

⁶ See 81 FR 47034 (July 20, 2016).

⁷ Kansas Administrative Regulations NONATTAINMENT AREA REQUIREMENTS 28-19-16. New source permit requirements for designated nonattainment areas and 28-19-16a through 28-19-16m. January 16, 1990 (55 FR 1420) January 11, 2000 (65 FR 1545).

Section 176(c) of the CAA requires states to establish criteria and procedures to ensure that federally supported or funded projects conform to the air quality planning goals in the applicable SIP. The requirement to determine conformity applies to transportation plans, programs, and projects that are developed, funded, or approved under title 23 of the United States Code (U.S.C.) and the Federal Transit Act (transportation conformity) as well as to all other federally supported or funded projects (general conformity). State transportation conformity SIP revisions must be consistent with Federal conformity regulations relating to consultation, enforcement, and enforceability that the EPA promulgated pursuant to its authority under the CAA. Considering the elimination of lead additives in gasoline, transportation conformity does not apply to the lead NAAQS. See 73 FR 66964 (November 12, 2008).

We have reviewed the State's SIP and propose to determine that it meets all applicable requirements under section 110 and Part D of the CAA to the extent those requirements are applicable for purposes of redesignation. EPA has previously approved provisions of the State's SIP addressing section 110 requirements (including provisions addressing lead) at 40 CFR 52.870.

VI. Summary of Proposed Action

The EPA is proposing to approve the State's request to redesignate the Salina nonattainment area to attainment for the 2008 lead NAAQS. Based on our detailed analysis above, the EPA has determined that the State's March 20, 2025, request for redesignation demonstrates NAAQS attainment and the associated maintenance plan will ensure that the area continues to attain the standard. The EPA is also proposing to approve the 2018 construction permit into the SIP revision approval for the area's redesignation and maintenance plan.

Thus, we are processing this as a proposed action because we are soliciting comments. Final rulemaking will occur after consideration of any comments.

VII. Incorporation by Reference

In this document, the EPA is proposing to include regulatory text in an EPA final rule that includes incorporation by reference. In accordance with requirements of 1 CFR 51.5, the EPA is proposing to add incorporation by reference of the Kansas permit issued December 27, 2018, discussed in section II. of this preamble and as set forth below in the proposed amendments to 40 CFR part 52. The EPA has made, and will continue to make, these materials generally available through https://www.regulations.gov and at the EPA Region 7 Office (please contact the person identified in the FOR FURTHER INFORMATION CONTACT section of this preamble for more information).

VIII. Statutory and Executive Order Reviews

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

List of Subjects

40 CFR Part 52

Environmental protection, Air pollution control, Incorporation by reference, Intergovernmental relations, Lead, Reporting and recordkeeping requirements.

40 CFR Part 81

Environmental protection, Air pollution control.

Dated: July 21, 2025.
James Macy,
Regional Administrator, Region 7.

For the reasons stated in the preamble, the EPA proposes to amend 40 CFR parts 52 and 81 as set forth below:

PART 52—APPROVAL AND PROMULGATION OF IMPLEMENTATION PLANS

1. The authority citation for part 52 continues to read as follows:

Authority: 42 U.S.C. 7401 et seq.

Subpart R—Kansas

2. In § 52.870:

a. The table in paragraph (d) is amended by adding the entry “(6)” at the end of the table; and

b. The table in paragraph (e) is amended by adding the entry “(48)” at the end of the table.

The additions read as follows:

§ 52.870 Identification of plan.

* * * * *

(d) * * *

EPA-Approved Kansas Source-Specific Permits
Name of source | Permit or case No. | State effective date | EPA approval date | Explanation
* * * * * * *
(6) Stryten Energy Battery Plant (formerly known as Exide) | 1690035 | 12/27/2018 | [Date of publication of the final rule in the Federal Register], 90 FR [Federal Register page where the document begins of the final rule] |

(e) * * *

EPA-Approved Kansas Nonregulatory Provisions
Name of nonregulatory SIP provision | Applicable geographic or nonattainment area | State submittal date | EPA approval date | Explanation
* * * * * * *
(48) Lead Redesignation SIP and Maintenance Plan | Portions of Saline County, Salina, Kansas | 3/20/2025 | [Date of publication of the final rule in the Federal Register], 90 FR [Federal Register page where the document begins of the final rule] | [EPA-R07-OAR-2025-0693; FRL-12887-01-R7].

PART 81—DESIGNATION OF AREAS FOR AIR QUALITY PLANNING PURPOSES

3. The authority citation for part 81 continues to read as follows:

Authority: 42 U.S.C. 7401, et seq.

Subpart C—Section 107 Attainment Status Designations

4. In § 81.317, the table entitled “Kansas—2008 Lead NAAQS” is amended by revising the entry “Saline County, KS:” to read as follows:

§ 81.317 Kansas.

* * * * *

Kansas—2008 Lead NAAQS
Designated area | Designation for the 2008 NAAQS ᵃ: Date ¹ | Designation for the 2008 NAAQS ᵃ: Type
Saline County, KS: | [Date of publication of the final rule in the Federal Register], 90 FR [Federal Register page where the document begins of the final rule] | Attainment.
Saline County (part)
Area bounded by Schilling Rd. on the north, ¼ mile west of S Ohio St. on the east, Water Well Rd. on the south, and 9th Street on the west
* * * * * * *
ᵃ Includes Indian Country located in each county or area, except as otherwise specified.
¹ December 31, 2011 unless otherwise noted.

[FR Doc. 2025-14980 Filed 8-6-25; 8:45 am]

BILLING CODE 6560-50-P